DEPARTMENT OF LABOR

Employment and Training Administration

[TA-W-61,298]

American Manufacturing International, Inc. Patterson, NJ; Notice of Negative Determination Regarding Application for Reconsideration; Correction

ACTION: Notice; correction.

SUMMARY: The Department of Labor, Employment and Training Administration published a document in the Federal Register on May 30, 2007, concerning a Notice of Negative Determination Regarding Application for Reconsideration. The office restructured a paragraph for clarification purposes.

Correction

In the Federal Register of May 30, 2007, in FR Doc. E7-10310, on page 30029, in the first and second column, correct the “text” caption to read:

Since the total number of separated workers was one during the relevant period, workers of American Manufacturing International, Inc., Patterson, New Jersey do not meet the group eligibility requirements for trade adjustment assistance.

Signed in Washington, DC, this 27th day of June 2007.
Elliott S. Kushner,
Certifying Officer, Division of Trade Adjustment Assistance.

[FR Doc. E7-12914 Filed 7-3-07; 8:45 am]

BILLING CODE 4510-FN-P